DEPARTMENT OF HOUSING AND URBAN DEVELOPMENT

[Docket No. FR-4970-N-01; HUD-2005-0011]

Notice of Draft Outcome Performance Measurement System for Community Planning and Development Formula Grant Programs; Request for Comments

AGENCY: Office of the Assistant Secretary for Community Planning and Development, HUD.

ACTION: Notice.

SUMMARY: On September 3, 2003, HUD's Office of Community Planning and Development (CPD) issued CPD Notice 03-09 entitled, “Development of State and Local Performance Measurements Systems for Community Planning and Development Formula Grant Programs.” The notice encouraged CPD formula grantees that receive Community Development Block Grant (CDBG) Program, HOME Investment Partnerships Program (HOME), Emergency Shelter Grants (ESG), or the Housing Opportunities for Persons with AIDS Program (HOPWA) assistance to develop and use performance measurement systems. In March 2004, the Council of State Community Development Agencies (COSCDA) convened a meeting with representatives from the National Community Development Association (NCDA), the National Association for County Community Economic Development (NACCED), the National Association of Housing and Redevelopment Officials (NAHRO), the National Council of State Housing Agencies (NCSHA), CPD, HUD's Office of Policy Development and Research (PD&R), and the Office of Management and Budget (OMB) to discuss the development of a performance measurement system that would be used by CPD formula grantees to gather information and determine the effectiveness of their programs. That meeting resulted in the formation of a working group composed of representatives from those agencies and associations. The working group met at various times from June until November 2004 and developed the appendix entitled, “Proposed Outcome Performance Measurement System” which is attached to this notice. This notice solicits comments from the public and particularly from formula program grantees on the proposed performance measurement system.

DATES: Comments Due Date: September 8, 2005.

ADDRESSES: Interested persons are invited to submit comments regarding this notice to the Regulations Division, Office of General Counsel, Room 10276, Department of Housing and Urban Development, 451 Seventh Street, SW., Washington, DC 20410-0500. Electronic comments may be submitted through either:

• The Federal Rulemaking Portal at http://www.regulations.gov; or

• The HUD electronic Web site at http://www.epa.gov/feddocket. Follow the link entitled, “View Open HUD Dockets.” Commenters should follow the instructions provided on that site to submit comments electronically.

Facsimile (FAX) comments are not acceptable. In all cases, communications must refer to the docket number and title. All comments and communications submitted will be available, without revision, for public inspection and copying between 8 a.m. and 5 p.m. weekdays at the above address. Due to security measures at the HUD Headquarters building, an advance appointment to review the public comments must be scheduled by calling the Regulations Division at (202) 708-3055 (this is not a toll-free number). Copies of the public comments are also available for inspection and downloading at http://www.epa.gov/feddocket.

FOR FURTHER INFORMATION CONTACT: Margy Coccodrilli, CPD Specialist, Office of Block Grant Assistance, Department of Housing and Urban Development, 451 Seventh Street, SW., Room 7282, Washington, DC 20410-7000, telephone, (202) 708-1577, extension 4507 (this is not a toll-free number). Hearing- or speech-impaired individuals may access this number through TTY by calling the toll-free Federal Information Relay Service at (800) 877-8339.

SUPPLEMENTARY INFORMATION:

I. Background

CPD Notice 03-09, “Development of State and Local Performance Measurements Systems for Community Planning and Development Formula Grant Programs,” encouraged grantees to develop state and local performance measurement systems. In addition, it described the need for HUD to begin to show the results of the federal dollars spent on the activities funded by the CDBG, HOME, ESG, and HOPWA programs.

Many CPD grantees have been frustrated by the inability to “tell their story” to their citizens and other stakeholders about the outcomes of the investments they have made in their communities using federal, state, and local resources. The inability to clearly demonstrate program results at the national level, which is the standard required by OMB's program assessment process, can have serious consequences on program budgets. The proposed outcome performance measurement system will enable HUD to collect information on the outcomes of activities funded with CPD formula grant assistance, and to aggregate that information at the national, state, and local level. The proposed outcome performance measurement system described by this notice is not intended to replace existing local performance measurement systems that are used to inform local planning and management decisions and increase public accountability. Grantees that had a local performance measurement system in place and those who are developing such a system should continue those efforts and are encouraged to make it compatible with this framework.

II. Performance Measurement Objectives

The proposed outcome performance measurement system has three overarching objectives: (1) Creating Suitable Living Environments, (2) Providing Decent Affordable Housing, and (3) Creating Economic Opportunities. There are also three outcomes under each objective: (1) Availability/Accessibility, (2) Affordability, and (3) Sustainability. Thus, the three objectives, each having three possible outcomes, will produce nine possible “outcome/objective statements” within which to categorize formula grant activities. Grantees will complete an outcome/objective statement in HUD's Integrated Disbursement and Information System (IDIS) by entering data in the form of an output indicator, seventeen of which have been specified and are described in the appendix to this notice.

Many of these output indicators already exist in IDIS for one or more formula programs, and this will be familiar to most grantees. However, HUD recognizes the need for terminology to be defined so that grantees, across programs, report data consistently. Some examples of terms that may require definition include numbers of persons served by public facilities or public services, area served, subsidized housing units, first-time homebuyers, and households served.

HUD requests that commenters pay special attention to the output indicators that are intended to represent most of the eligible activities carried out by grantees, and to offer definitions for terms that may be subject to interpretation.

The list of indicators in the appendix does not attempt to describe the data collection process as it would appear in IDIS, but rather attempts to outline the fundamental IDIS data requirements across the four formula program areas and for each of the various eligible activities. In this document, the data output indicators are, by necessity, described in a narrative format that is repetitive. However, the performance measurement system will be incorporated into the redesign of IDIS, or any successor system, allowing for simplified data collection, including drop-lists and yielding performance data that can be aggregated and reported by HUD Headquarters, field offices, or grantees.

HUD acknowledges that there are some outcomes that the Department would like to be able to demonstrate that require more information than could be provided through the data described in this Notice. An example is determining whether a household that was assisted was able to maintain its homeownership. To minimize the burden on grantees, HUD will endeavor to undertake research and evaluation efforts to address such issues.

It is hoped that a fully redesigned IDIS would significantly reduce the overall administrative burden on grantees by folding the Consolidated Plan, Annual Action Plan, and Consolidated Annual Performance and Evaluation Report (CAPER) into a single performance measurement system, thereby eliminating duplicative data entries. In the interim, elements of the performance measurement system will be incorporated into the Consolidated Plan Management Process (CPMP) Tool so that local objectives and outcomes can be entered at the beginning of the Consolidated Plan or Annual Action Plan development process, and accomplishments under those objectives and outcomes can be reported in CAPER. Grantees should continue to encourage citizens and local organizations to participate in the development of their outcome-oriented performance measurement plans and reports and make drafts available for public comment via the Internet, where possible.

The first phase of the IDIS changes, which will be operational by late 2006 or early 2007, will include many elements of the proposed outcome performance measurement system. Consequently, the new performance measurement system is planned to be in place in time for reporting Fiscal Year (FY) 2007 program year activities. HUD intends to provide training in the first half of Calendar Year 2006 so that grantees can include the system's national objectives and outcome statements as part of their FY2007 Consolidated Plan or Annual Action Plan submission.

III. Additional Opportunities for Public Participation

HUD is actively soliciting comments from grantees to improve and fine-tune the design and actual use of this framework. CPD is also planning five facilitation sessions and one satellite broadcast to explain the importance of measuring performance and the use of the proposed outcome performance measurement system to capture those results. Dates and locations of the facilitation sessions are listed below. Additional information regarding the sessions can be obtained by accessing the following Web site: http://www.icfhosting.com/hud/cdbg/registration.nsf or by telephone, at (703) 934-3392.

Satellite Broadcast, June 30, 2005.

San Francisco, CA, July 18, 2005.

Philadelphia, PA, July 20, 2005.

Detroit, MI, July 26, 2005.

Atlanta, GA, July 28, 2005.

Austin, TX, August 2, 2005.

Persons wishing to comment, particularly program grantees, may use these sessions to do so, or may send comments directly to HUD using the contact information provided in the ADDRESSES section of this notice.

HUD intends to analyze the comments received and make any appropriate revisions prior to issuing final guidance. This will provide opportunity for grantees to include outcome measurements in their FY2007 Annual Action Plans.

Dated: June 7, 2005.
Pamela H. Patenaude,
Assistant Secretary for Community Planning and Development.

BILLING CODE 4210-29-P

[FR Doc. 05-11619 Filed 6-8-05; 11:37 am]

BILLING CODE 4210-29-C